OFFICE OF MANAGEMENT AND BUDGET

Grants Related Information Collection Under OMB Review

AGENCY: Office of Management and Budget.

ACTION: Notice of submission for OMB review, comment request.

SUMMARY: In accordance with the Paperwork Reduction Act of 1980, as amended (44 U.S.C. 3501 et seq.), this notice announces that an information collection extension request was submitted to the Office of Management and Budget's (OMB) Office of Information and Regulatory Affairs (OIRA) for processing under 5 CFR 1320.10. The first notice of this information collection extension was published in the Federal Register as required by the Paperwork Reduction Act, on October 29, 2004 [69 FR 63186] and invitee the general public and Federal agencies to comment on the extension without change of standard form, SF-424, Application for Federal Assistance. This form is currently required by OMB Circular A-102, “Grants and Cooperative Agreements with State and Local Governments,” and Title 2 Code of Federal Regulations Part 215 (OMB Circular A-110, “Uniform Administrative Requirements for Grants and Agreements with Institutions of Higher Education, Hospitals, and Other Non-Profit Organizations.” The form will continue to be used while the E-GOV Grants.gov interagency team completes their analysis of public comments received in response to an April 8, 2003, Federal Register notice [68 FR 17090] and finalizes the government-wide data standard.

DATES: Comments must be submitted on or before March 7, 2005. Late comments will be considered to the extent practicable.

ADDRESSES: Due to potential delays in OMB's receipt and processing of mail sent through the U. S. Postal Service, we encourage respondents to submit comments electronically to ensure timely receipt. We cannot guarantee that comments mailed will be received before the comment closing date. Electronic mail comments may be submitted to: ahunt@omb.eop.gov. Please include “SF-424” in the subject line and the full body of your comments in the text of the electronic message (and as an attachment if you wish). Please include your name, title, organization, postal address, telephone number, and E-mail address in the text of the message. Comments may also be submitted via facsimile to 202-395-7285. Comments may be mailed to Alexander Hunt, Office of Information and Regulatory Affairs, Office of Management and Budget, Room 10236, New Executive Office Building, 725 17th Street, NW., Washington, DC 20503.

FOR FURTHER INFORMATION CONTACT: Elizabeth Phillips, Office of Federal Financial Management, Office of Management and Budget, (202) 395-3993. The standard forms can be downloaded from the OMB Grants Management home page (http://www.whitehouse.gov/omb/grants).

SUPPLEMENTARY INFORMATION

A. Background

OMB Control No.: 0348-0043.

Title: Application for Federal Assistance.

Form No.: SF-424.

Type of Review: Extension of a currently approved collection.

Respondents: States, Local Governments, non-profit organizations.

Number of Responses: 100,000.

Estimated Time Per Response: 20 minutes.

Needs and Uses: The SF-424 is used to provide general information about the entity and the proposed project when applying for Federal assistance under grant and cooperative agreement awards. The Federal awarding agencies use information reported on this form for the pre-award and award processes.

B. Public Comments and Responses

Pursuant to the October 29, 2004, Federal Register notice, OMB received one comment letter relating to the proposed SF-424 information collection extension. The comment from a State government agency noted that the SF-424 was not posted in a “fill-enabled and electronically saveable” format. We encourage use of the electronic application process under Grants.gov (http://www.grants.gov) where the SF-424 is fill-enabled and electronically saveable. The form posted on OMB's website is available in read-only “pdf” format.

David Zavada,
Chief, Financial Standards and Grants Branch.

[FR Doc. 05-2104 Filed 2-3-05; 8:45 am]

BILLING CODE 3110-01-P